DEPARTMENT OF TRANSPORTATION

Surface Transportation Board

[STB Finance Docket No. 34846]

Pennsylvania Northeast Regional Railroad Authority ¹—Acquisition Exemption—Lackawanna County Railroad Authority

¹ Formerly Monroe County Railroad Authority (MCRA). The corporate name change was effective on the consummation date of this transaction.

Pennsylvania Northeast Regional Railroad Authority (PNRRA), a political subdivision of the State of Pennsylvania and a non-operating Class III rail carrier, has filed a verified notice of exemption under 49 CFR 1150.41 to acquire from Lackawanna County Railroad Authority (LCRA) approximately 65 miles of rail lines it owns in Lackawanna, Monroe and Wayne Counties, PA, including the Carbondale Line from Fell Township to the Borough of Moosic (milepost 174.6 to milepost 196.9); Vine St. Branch in the City of Scranton (milepost 2.0 to milepost 0.3); Strawberry Hill Running Track in the City of Scranton (approximately 2,000 ft); the Pocono Line from Scranton to Mt. Pocono (milepost 134 to milepost 101); the Laurel Line and Brady Lead (milepost 0.0 to milepost 4.81); the Diamond Branch of the former Delaware Lackawanna & Western Railroad extending 0.85 miles from milepost 144.75 to milepost 145.6 in Scranton; and the Minooka Industrial Track in the City of Scranton extending 2.1 miles from Little Virginia to end of track including all sidings and spurs. The lines will continue to be operated by Delaware-Lackawanna Railroad Co. pursuant to contract.

PNRRA certifies that its projected revenues as a result of this transaction will not result in the creation of a Class II or Class I rail carrier and will not exceed $5 million annually.

The transaction was expected to be consummated on or after May 20, 2006.

If the verified notice contains false or misleading information, the exemption is void ab initio. Petitions to revoke the exemption under 49 U.S.C. 10502(d) may be filed at any time. The filing of a petition to revoke will not automatically stay the transaction.

An original and 10 copies of all pleadings, referring to STB Finance Docket No. 34846, must be filed with the Surface Transportation Board, 1925 K Street, NW., Washington, DC 20423-0001. In addition, one copy of each pleading must be served on Keith G. O'Brien, 1050 Seventeenth Street, NW., Suite 600, Washington, DC 20036.

Board decisions and notices are available on our Web site at http://www.stb.dot.gov.

Decided: May 26, 2006.
By the Board, David M. Konschnik, Director, Office of Proceedings.
Vernon A. Williams,
Secretary.

[FR Doc. E6-8633 Filed 6-2-06; 8:45 am]

BILLING CODE 4915-01-P